DEPARTMENT OF THE INTERIOR

Geological Survey

[GX23MR00G74E400; OMB Control Number 1028-0098]

Agency Information Collection Activities; Nonindigenous Aquatic Species Sighting Report Form and Alert Registration Form

AGENCY: U.S. Geological Survey, Interior.

ACTION: Notice of information collection; request for comment.

SUMMARY: In accordance with the Paperwork Reduction Act of 1995 (PRA), the U.S. Geological Survey (USGS) is proposing to renew an information collection.

DATES: Interested persons are invited to submit comments on or before January 9, 2023.

ADDRESSES: Send your comments on this information collection request (ICR) by mail to U.S. Geological Survey, Information Collections Officer, 12201 Sunrise Valley Drive MS 159, Reston, VA 20192; or by email to gs-info_collections@usgs.gov. Please reference OMB Control Number 1028-0098 in the subject line of your comments.

FOR FURTHER INFORMATION CONTACT: To request additional information about this ICR, contact Matthew Neilson by email at mneilson@usgs.gov, or by telephone at (352) 264-3519. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA, 44 U.S.C. 3501 et seq. and 5 CFR 1320.8(d)(1), all information collections require approval. We may not conduct or sponsor, nor are you required to respond to, a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: America is under siege by many harmful non-native species of plants, animals, and microorganisms. More than 6,500 nonindigenous species are now established in the United States, posing risks to native species, valued ecosystems, and human and wildlife health. These invaders extract a huge cost—an estimated $120 billion per year—to mitigate their harmful impacts. The current annual environmental, economic, and health-related costs of invasive species exceed those of all other natural disasters combined.

Through its Invasive Species Program (http://www.usgs.gov/ecosystems/invasive_species/), the USGS plays an important role in federal efforts to combat invasive species in natural and semi-natural areas through early detection and assessment of newly established invaders; monitoring of invading populations; and improving understanding of the ecology of invaders and factors in the resistance of habitats to invasion. The USGS provides the tools, technology, and information supporting efforts to prevent, contain, control, and manage invasive species nationwide. To meet user needs, the USGS also develops methods for compiling and synthesizing accurate and reliable data and information on invasive species for inclusion in a distributed and integrated web-based information system.

As part of the USGS Invasive Species Program, the Nonindigenous Aquatic Species (NAS) database (http://nas.er.usgs.gov/) functions as a repository and clearinghouse for occurrence information on nonindigenous aquatic species from across the United States. It contains locality information on approximately 1,380 species of vertebrates, invertebrates, and vascular plants introduced since 1850. Taxa include foreign species as well as those native to North America that have been transported outside of their natural range. The NAS website provides immediate access to new occurrence records through a real-time interface with the NAS database. Visitors to the website can use a set of predefined queries to obtain lists of species according to state or hydrologic basin of interest. Fact sheets, distribution maps, and information on new occurrences are continually posted and updated. Dynamically generated species distribution maps show the spatial accuracy of the locations reported, population status, and links to more information about each report. The NAS database will collect information on new species occurrences from the public using a sighting report form, which includes the species observed, location and date of observation, optional contact information (for any subsequent follow up discussion on observation), and optional images or other media files that provide supporting evidence of the organism.

The NAS website also allows users to sign up for email alert notifications of new species observations of interest matching several taxonomic or geographic filters through an alert registration form. The information collected includes a name, email address, a user-specific password, and notification preferences.

Title of Collection: Nonindigenous Aquatic Species Sighting Reporting Form and Alert Registration Form.

OMB Control Number: 1028-0098.

Form Number: None.

Type of Review: Renewal of a currently approved collection.

Respondents/Affected Public: Federal, State, and local government employees, university personnel, and private individuals.

Total Estimated Number of Annual Respondents: We estimate approximately 350 respondents per year for the sighting report form (some respondents will submit multiple reports per year), and 50 respondents (i.e., new registrations) per year for the alert registration form.

Total Estimated Number of Annual Responses: We estimate 600 responses per year for the sighting report form, and 50 responses (i.e., new registrations) per year for the alert registration form.

Estimated Completion Time per Response: We estimate 3 minutes for the sighting report form, and 1 minute for the alert registration form.

Total Estimated Number of Annual Burden Hours: We estimate 30 hours for the sighting report form, and 1 hour for the alert registration form; a total of 31 hours for the two forms.

Respondent's Obligation: Voluntary.

Frequency of Collection: On occasion.

Total Estimated Annual Nonhour Burden Cost: None.

An agency may not conduct or sponsor, nor is a person required to respond to, a collection of information unless it displays a currently valid OMB control number.

The authority for this action is the PRA (44 U.S.C. 3501 et seq).

Lynn Copeland,
Center Director, Wetland and Aquatic Research Center, U.S. Geological Survey.

[FR Doc. 2022-24337 Filed 11-7-22; 8:45 am]

BILLING CODE 4338-11-P